DEPARTMENT OF ENERGY

Federal Energy Regulatory Commission

[Project No. 2232-428—North Carolina and South Carolina]

Duke Energy Corporation; Notice of Availability of Draft Environmental Assessment

January 17, 2003.

In accordance with the National Environmental Policy Act of 1969, as amended, and the Federal Energy Regulatory Commission's (Commission) regulations (18 CFR part 380), Commission staff have reviewed a proposed Revised Shoreline Management Plan (SMP) for the Catawba-Wateree Project (FERC No. 2232), and have prepared a draft Environmental Assessment on the proposed plan. The project is located on the Catawba River in North Carolina and South Carolina.

Specifically, the project licensee (Duke Energy Corporation) has requested Commission approval of the SMP. The proposed SMP is intended to supercede the approved SMP including the classification maps. The draft EA addresses proposed revisions to SMP for the Catawba-Wateree Project. The SMP and maps address the allowable uses of 1,727 miles of shoreline for the 11 project reservoirs located in North Carolina and South Carolina. In the draft EA, Commission staff have analyzed the probable environmental effects of implementing the proposed SMP and have concluded that approval of the proposed SMP, with appropriate environmental measures, would not constitute a major Federal action significantly affecting the quality of the human environment.

Copies of the draft EA are available for review in Public Reference Room 2-A of the Commission's offices at 888 First Street, NE., Washington, DC. The draft EA also may be viewed on the Commission's Internet Web site (http://www.ferc.gov) using the “FERRIS” link. Additional information about the project is available from the Commission's Office of External Affairs, at (202) 502-6088 or on the Commission's Web site using the FERRIS link. Click on the FERRIS link, enter the docket number excluding the last three digits in the Docket Number field. Be sure you have selected an appropriate date range. For assistance with FERRIS, contact FERCOnlineSupport@ferc.gov or call toll-free at (866) 208-3676, or for TTY contact (202) 502-8659. The FERRIS link on the FERC's Internet Web site also provides access to the texts of formal documents issued by the Commission, such as orders, notices, and rulemakings.

Any comments on the draft EA should be filed within 30 days of the date of this notice and should be addressed to Magalie R. Salas, Secretary, Federal Energy Regulatory Commission, 888 First Street, NE., Washington, DC 20426. Please reference “Catawba-Wateree Hydroelectric Project, FERC Project No. 2232-428” on all comments. Comments may be filed electronically via the Internet in lieu of paper. See 18 CFR 385.2001(a)(1)(iii) and the instructions on the Commission's Web site under the “e-Filing” link.

Magalie R. Salas,
Secretary.

[FR Doc. 03-1617 Filed 1-23-03; 8:45 am]

BILLING CODE 6717-01-P